DEPARTMENT OF STATE

[Public Notice 5377]

Third Public Meeting of the Advisory Committee on Persons With Disabilities

Summary: The Advisory Committee on Persons with Disabilities will conduct its third public meeting on May 1, 2006 from 9 a.m.-4 p.m. Reagan Building and International Trade Center, 1300 Pennsylvania Avenue, NW., Washington, DC 20004. See, http://www.itcdc.com/index.php.

Attendees must have valid, government-issued identification in order to enter the building.

The Advisory Committee is made up of the Secretary of State, the Administrator for International Development and an Executive Director (all ex-officio members); and eight members from outside the United States government: Senda Benaissa, Walter Bollinger, Joni Eareckson Tada, Vail Horton, John Kemp, Albert H. Linden, Jr., Kathleen Martinez, and John Register.

Established on June 23, 2004, the Advisory Committee serves the Secretary and the Administrator in an advisory capacity with respect to the consideration of the interests of persons with disabilities in formulation and implementation of U.S. foreign policy and foreign assistance. The Committee is established under the general authority of the Secretary and the Department of State as set forth in Title 22 of the United States Code, in particular Sections 2656 and 2651a, and in accordance with the Federal Advisory Committee Act, as amended.

Dated: April 13, 2006.
Stephanie Ortoleva,
Bureau of Democracy, Human Rights and Labor, Department of State.

[FR Doc. E6-5868 Filed 4-18-06; 8:45 am]

BILLING CODE 4710-18-P